COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee has received proposals to add to the Procurement List commodities and services to be furnished by nonprofit agencies employing persons who are blind or have other severe disabilities, and to delete commodities previously furnished by such agencies.

COMMENTS MUST BE RECEIVED ON OR BEFORE: April 17, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Bag, T-Shirt Style & Bag, Produce, Star Bottom

8105-00-NIB-1023 (Bag, T-Shirt Style)

8105-00-NIB-1046 (Bag, Produce, Star Bottom) (Requirements for DeCA Northeast Region)

NPA: Envision, Inc., Wichita, Kansas

Services

Base Supply Center, Patrick Air Force Base, Florida

NPA: Signature Works, Inc., Hazlehurst, Mississippi

Base Supply Center & HAZMART, Marine Corps Air Ground Combat Center, Building 1102, TwentyNine Palms, California

NPA: L.C. Industries For The Blind, Inc., Durham, North Carolina

Janitorial/Grounds Maintenance, Federal Courthouse, Pocatello, Idaho

NPA: New Day Products, Inc., Pocatello, Idaho

Parking Facility Attendant, Department of Veterans Affairs Medical Center, John D. Dingell VA Medical Center, 4646 John R Street, Detroit, Michigan

NPA: Jewish Vocational Service and Community Workshop, Inc., Southfield, Michigan

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Transparency Film, Xerographic

7530-01-386-2371

Tea Mix, Instant

8955-00-823-7016

Leon A. Wilson, Jr.,
Executive Director.

[FR Doc. 00-6668 Filed 3-16-00; 8:45 am]

BILLING CODE 6353-01-U